DEPARTMENT OF HEALTH AND HUMAN SERVICES

National Institutes of Health

National Institute of Mental Health; Amended Notice of Meeting

Notice is hereby given of a change in the meeting of the National Institute of Mental Health Special Emphasis Panel, October 8, 2004, 9 a.m. to October 8, 2004, 4 p.m., Holiday Inn Select Bethesda, 8120 Wisconsin Avenue, Bethesda, MD 20814 which was published in the Federal Register on September 20, 2004, 69 FR 56234.

The meeting will be held on December 2-3, 2004 at the same location (Holiday Inn Select Bethesda) and the same times (9 a.m. to 4 p.m.). The meeting is closed to the public.

Dated: November 10, 2004.
LaVerne Y. Stringfield,
Director, Office of Federal Advisory Committee Policy.

[FR Doc. 04-25574 Filed 11-17-04; 8:45 am]

BILLING CODE 4140-01-M